DEPARTMENT OF THE INTERIOR

Fish and Wildlife Service

Information Collection Renewal Sent to the Office of Management and Budget (OMB) for Approval Under the Paperwork Reduction Act; 1018-0109; Federal Assistance Grant Application Booklet, 50 CFR Part 80

AGENCY: Fish and Wildlife Service, Interior.

ACTION: Notice; request for comments.

SUMMARY: We (Fish and Wildlife Service) have sent a request to OMB to renew approval for our information collection associated with the Federal Assistance Grant Application Booklet. The current OMB control number for this information collection is 1018-0109, which expires October 31, 2005. We have requested that OMB renew approval of this information collection for a 3-year term.

DATES: You must submit comments on or before December 2, 2005.

ADDRESSES: Send your comments and suggestions on this information collection renewal to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request a copy of the information collection requirements, explanatory information, or related booklet, contact Hope Grey, Information Collection Clearance Officer, at the above addresses or by telephone at (703) 358-2482.

SUPPLEMENTARY INFORMATION: OMB regulations at 5 CFR 1320, which implement the provisions of the Paperwork Reduction Act of 1995 (44 U.S.C. 3501 et seq.), require that interested members of the public and affected agencies have an opportunity to comment on information collection and recordkeeping activities (see 5 CFR 1320.8(d)). Federal agencies may not conduct or sponsor and a person is not required to respond to a collection of information unless it displays a currently valid OMB control number.

On August 3, 2005, we published in the Federal Register (70 FR 44678) a 60-day notice of our intent to request renewal of this information collection authority from OMB. In that notice, we solicited public comments for 60 days ending October 3, 2005. We did not receive any comments regarding this notice.

We administer several grant programs under the authority of the Federal Aid in Wildlife Restoration Act (16 U.S.C. 669-669i), the Federal Aid in Sport Fish Restoration Act (16 U.S.C. 777-777l), the Endangered Species Act (16 U.S.C. 1531 et seq.), the Clean Vessel Act (16 U.S.C. 777c), the Sportfishing and Boating Safety Act (16 U.S.C. 777g-1), and the Coastal Wetlands Planning, Protection, and Restoration Act (16 U.S.C. 3951-3956). The Federal Assistance Grant Application Booklet provides the public information on how to apply for these Federal grants. We collect information relevant to eligibility, substantiality, relative value, and budget information from applicants in order to make awards of grants under these programs. We also collect financial and performance information to track costs and accomplishments of these grant programs. We need this information to support the grant work of our Division of Federal Assistance. We have not made any changes to the booklet.

Title: Federal Assistance Grant Application Booklet, 50 CFR 80.

Approval Number: 1018-0109.

Frequency of Collection: Annually.

Description of Respondents: State, territorial (the Commonwealth of Puerto Rico, the District of Columbia, the Commonwealth of the Northern Mariana Islands, Guam, the Virgin Islands, and American Samoa), and local governments, and others receiving grant funds.

Number of applicants: 200.

Total Annual Burden Hours:

Action | Completion time (hours) | Annual number of responses | Annual hour burden
Initial Proposal | 80 | 4,000 | 320,000
Amendment | 2 | 1,750 | 3,500
Totals |  | 5,750 | 323,500

We again invite comments on: (1) Whether or not the collection of information is necessary for the proper performance of the functions of the agency, including whether or not the information will have practical utility; (2) the accuracy of our estimate of the burden of the collection of information; (3) ways to enhance the quality, utility, and clarity of the information to be collected; and (4) ways to minimize the burden of collection of information on respondents, including through the use of appropriate automated, electronic, mechanical, or other technological collection techniques or other forms of information technology.

Dated: October 5, 2005.
Hope Grey,
Information Collection Clearance Officer, Fish and Wildlife Service.

[FR Doc. 05-21796 Filed 11-1-05; 8:45 am]

BILLING CODE 4310-55-P